ENVIRONMENTAL PROTECTION AGENCY

40 CFR Part 52

[EPA-R01-OAR-2012-0198; A-1-FRL-9900-63-Region1]

Approval and Promulgation of Air Quality Implementation Plans; Connecticut; NOX Emission Trading Orders as Single Source SIP Revisions

AGENCY: Environmental Protection Agency (EPA).

ACTION: Final rule.

SUMMARY: EPA is approving State Implementation Plan (SIP) revisions submitted by the State of Connecticut. These revisions approve NOX Emission Trading Orders (trading orders) allowing facilities to create and/or use emission credits to comply with the NOX emission limits required by Regulations of Connecticut State Agencies (RCSA) section 22a-174-22 (Control of Nitrogen Oxides). The intended effect of this action is to allow facilities to determine the most cost-effective way to comply with the state regulation. This action is being taken in accordance with the Clean Air Act.

DATES: This rule is effective on October 9, 2013.

ADDRESSES: EPA has established a docket for this action under Docket Identification No. EPA-R01-OAR-2010-0198. All documents in the electronic docket are listed on the www.regulations.gov Web site. Although listed in the index, some information is not publicly available, i.e., CBI or other information whose disclosure is restricted by statute. Certain other material, such as copyrighted material, is not placed on the Internet and will be publicly available only in hard copy form. Publicly available docket materials are available either electronically through www.regulations.gov or in hard copy at the Office of Ecosystem Protection, U.S. Environmental Protection Agency, EPA New England Regional Office, Office of Ecosystem Protection, Air Permits, Toxics and Indoor Programs Unit, 5 Post Office Square—Suite 100, Boston, MA. EPA requests that if at all possible, you contact the contact listed in the FOR FURTHER INFORMATION CONTACT section to schedule your inspection. The Regional Office's official hours of business are Monday through Friday, 8:30 to 4:30, excluding legal holidays.

FOR FURTHER INFORMATION CONTACT: Donald Dahl, Air Permits, Toxics, and Indoor Programs Unit, Office of Ecosystem Protection, U.S. Environmental Protection Agency, EPA New England Regional Office, 5 Post Office Square, Suite 100, (OEP05-2), Boston, MA 02109-3912, phone number (617) 918-1657, fax number (617) 918-0657, email Dahl.Donald@epa.gov.

SUPPLEMENTARY INFORMATION:

Throughout this document whenever “we,” “us,” or “our” is used, we mean EPA.

Table of Contents

I. What is the background for this action?

II. What comments did EPA receive?

III. What facilities are affected by this action?

IV. What action is EPA taking?

V. Statutory and Executive Order Reviews.

I. What is the background for this action?

On November 29, 2012 (77 FR 71140), EPA published a Notice of Proposed Rulemaking (NPR) for the State of Connecticut. The NPR proposed approval of 148 source-specific trading orders that allow 50 sources to trade emission credits in order to comply with state regulations for reducing nitrogen oxide (NOX) emissions. The formal SIP revisions were submitted by Connecticut on August 18, 2000, December 12, 2002, July 1, 2004, and January 13, 2006.¹ Detailed background information and EPA's rationale for the proposed approval are provided in EPA's November 29, 2012, Federal Register action.

¹ In addition to the NOX Trading Orders EPA is taking action on today, the January 13, 2006 SIP submittal contained Consent Order 8246, Modification 1 issued to Sikorsky Aircraft, Consent Order 8258 issued to Mallace Industries, Consent Order 8032A issued to Coats North America, Consent Order 8009 issued to Uniroyal, and Consent Order 8200 issued to Watson Laboratories. EPA did not propose to take action on these Consent Orders in its November 29, 2012 Federal Register action and we are not taking action on these Consent Orders in this action.

II. What comments did EPA receive?

The public comment period on the proposed approval of Connecticut's SIP revision ended on December 31, 2012. EPA did not receive any comments on the proposed approval of this SIP revision.

III. What facilities are affected by this action?

EPA is approving NOX emission trading orders for the facilities listed in the table below.

Trading order number(s) | Name of facility | Facility location
1494A, 8116 Modification, 8116A, 8116B | Connecticut Resources Recovery Authority | Hartford.
1494 Modifications 2, 3, 4, 5, and 6 | Connecticut Light and Power | Branford, Greenwich, Hartford, Montville, Middletown, Milford, Preston, Norwalk, and Torrington.
8154 Modifications 1, 2, and 3, 8154A | Combustion Engineering | Windsor.
1626, 1626 Modification 1, 8247 | Borough of Naugatuck | Naugatuck.
8159, 8181, 8181A, 8181A Modification 1, 8219, 8219A, 8219A Modification 1, 8251, 8251 Modification 1 | Connecticut Light and Power/Devon Power LLC | Milford.
8109 | Hamilton Sundstrand | Windsor Locks.
8093A, 8093B, 8093C, 8093C Modification 1, 8136, 8136A | Pfizer | Groton.
8119 Modification, 8119A, 8119A Modification 1 | City of Norwich, Department of Public Utilities | Norwich.
8092 Modification, 8103 Modifications 1 and 2, 8177 Modification 1, 8241, 8241 Modification 1, 8242, 8244, 8244 Modification 1, 8253, 8253 Modification 1 | United Illuminating/Wisvest-Connecticut LLC/PSEG Power Connecticut LLC | Bridgeport.
8115 Modification 2, 8115B | University of Connecticut | Storrs.
8107 Modifications 1 and 2, 8152, 8152 Modification, 8152A, 8221, 8221A, 8222, 8222A | Northeast Nuclear Energy/Dominion Nuclear | Waterford.
8180, 8180 Modification 1, 8180A, 8180A Modification 1 | Connecticut Jet Power | Branford, Greenwich, and Torrington.
8114 Modifications 1 and 2, 8114A | CYTEC Industries | Wallingford.
8117. 8117A, 8117B | Sprague Paperboard | Versailles.
8157, 8160, 8162, 8182, 8182A, 8182A Modification 1, 8213, 8213A, 8213A Modification 1, 8214, 8214A, 8214A Modification 1, 8215, 8215A, 8215A Modification 1, 8227, 8227A, 8227A Modification 1 | Connecticut Light and Power/Middletown Power LLC | Middletown.
8156, 8161, 8183, 8183A, 8183A Modification 1, 8216, 8216A, 8216A Modification 1, 8217, 8217A, 8217A Modification 1 | Connecticut Light and Power/Montville Power LLC | Montville.
8158, 8184, 8184A, 8184A Modification 1, 8218, 8218A, 8218A Modification 1 | Connecticut Light and Power/Norwalk Power LLC | Norwalk.
8134, 8134A, 8248 | United Technologies | East Hartford.
8175, 8175 Modification 1, 8175A, 8175A Modification 1 | Northeast Generation Company | Berlin.
8102 Modification, 8153, 8176 Modification 1, 8240, 8240 Modification 1, 8243 | United Illuminating/Wisvest-Connecticut LLC/PSEG Power Connecticut LLC | New Haven.
8220, 8220A, 8220A Modification 1 | Bristol Meyers Squibb | Wallingford.
8124, 8124A | Stone Container | Uncasville.
8120, 8120A | Sikorsky Aircraft | Stratford.
8137 Modifications 1 and 2, 8137A | AlliedSignal and U.S. Army Tank | Stratford.
8188 | Allegheny Ludlum | Wallingford.
8112, 8112A, 8112A Modification 1, 8201CC | United States Naval Submarine Base | Groton.
8230 | Jacobs Vehicle Systems | Bloomfield.
8110 Modification | Yale University | New Haven.
8123 Modification, 8123A | Algonquin Gas Transmission | Cromwell.
8250, 8261 | Algonquin Windsor Locks | Windsor Locks.
8249, 8249 Modification 1 | Capitol District Energy Center | Hartford.
8094 Modification | Ogden Martin | Bristol.
8095 Modification | American Ref-Fuel | Preston.
8100 Modification | Bridgeport Resco | Bridgeport.
8101 Modification | Connecticut Department of Mental Health and Addiction Services | Middletown.
8111 Modification | Uniroyal Chemical | Naugatuck.
8118 Modification | South Norwalk Electrical Works | Norwalk.
8130 Modification | Connecticut Department of Public Works | Newtown.
8132 Modification | Bridgeport Hospital | Bridgeport.
8141 Modification | Town of Wallingford, Department of Public Utilities | Wallingford.

IV. What action is EPA taking?

Pursuant to section 110 of the CAA, EPA is approving Connecticut's August 18, 2000, December 12, 2002, July 1, 2004, and January 13, 2006 SIP revisions relating to 148 NOX trading orders. These orders allow sources to create and/or use NOX emission credits to comply with RCSA Section 22a-174-22 (Control of Nitrogen Oxides).

EPA has made the determination these SIP revisions are approvable because they are in accordance with the CAA. The detailed rationale for this action is set forth in the proposed rulemaking referenced above.

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: Rules of particular applicability; rules relating to agency management or personnel; and rules of agency organization, procedure, or practice that do not substantially affect the rights or obligations of non-agency parties. 5 U.S.C. 804(3). Because this is a rule of particular applicability, EPA is not required to submit a rule report regarding this action under section 801.

Under section 307(b)(1) of the Clean Air Act, petitions for judicial review of this action must be filed in the United States Court of Appeals for the appropriate circuit by November 8, 2013. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Reporting and recordkeeping requirements.

Dated: August 21, 2013.
H. Curtis Spalding,
Regional Administrator, EPA New England.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart H—Connecticut

2. Section 52.377 is amended by adding paragraph (m) to read as follows:

§ 52.377 Control strategy: Ozone.

* * * * *

(m) Approval. (1) Revisions to the State Implementation Plan submitted by the Connecticut Department of Environmental Protection on August 18, 2000, December 12, 2002, July 1, 2004, January 13, 2006. The revisions consist of 148 single source emission trading orders necessary for satisfying Reasonable Available Control Technology requirements for nitrogen oxides during specific time periods. All trading orders expired before January 1, 2013, with the exception of Trading Agreement and Order 8242, in paragraph (m)(1)(xlii) of this section, issued to PSEG Power Connecticut, LLC in Bridgeport, Connecticut on February 12, 2003. Trading Agreement and Order 8242 was issued to reflect a change in ownership at the source.

(i) Trading Agreement and Order No. 8116 Modification No. 1 issued to the Connecticut Resources Recovery Authority in Hartford on April 29, 1999.

(ii) Trading Agreement and Order No. 1494A issued to the Connecticut Resources Recovery Authority in Hartford on May 4, 2001.

(iii) Trading Agreement and Order No. 8116A issued to The Connecticut Resources Recovery Authority in Hartford on March 18, 2003.

(iv) Trading Agreement and Order No. 8116B issued to The Connecticut Resources Recovery Authority in Hartford on April 11, 2005.

(v) Order No. 1494 Modification No. 2 issued to The Connecticut Light and Power Company in Branford, Greenwich, Hartford, Montville, Middletown, Milford, Preston, Norwalk, and Torrington on May 6, 1998.

(vi) Order No. 1494 Modification No. 3 Issued to The Connecticut Light and Power Company In Branford, Greenwich, Hartford, Montville, Middletown, Milford, Preston, Norwalk, and Torrington on February 3, 1999.

(vii) Consent Order No. 1494 Modification No. 4 issued to Connecticut Light and Power Company in Branford, Greenwich, Hartford, Montville, Middletown, Milford, Preston, Norwalk, and Torrington on April 29, 1999.

(viii) Order No. 1494 Modification No. 5 issued to The Connecticut Light and Power Company in Branford, Greenwich, Hartford, Montville, Middletown, Milford, Preston, Norwalk, and Torrington on November 29, 1999.

(ix) Order No. 1494 Modification No. 6 issued to The Connecticut Light and Power Company in Branford, Greenwich, Hartford, Montville, Middletown, Milford, Preston, Norwalk, and Torrington on April 30, 2000.

(x) Trading Agreement and Order No. 8154 Modification No. 1 issued to Combustion Engineering, Inc. in Windsor on June 3, 1998.

(xi) Trading Agreement and Order No. 8154 Modification No. 2 issued to Combustion Engineering, Inc. in Windsor on April 29, 1999.

(xii) Trading Agreement and Order No. 8154 Modification No. 3 issued to Combustion Engineering, Inc. in Windsor on April 21, 2002.

(xiii) Trading Agreement and Order No. 8154A issued to Combustion Engineering, Inc. in Windsor on April 26, 2003.

(xiv) Consent Order No. 1626 issued to Borough of Naugatuck in Naugatuck on February 14, 2001.

(xv) Consent Order No. 1626 Modification No. 1 issued to Borough of Naugatuck in Naugatuck on July 31, 2002.

(xvi) Trading Agreement and Order No. 8247 issued to Borough of Naugatuck in Naugatuck on April 26, 2003.

(xvii) Trading Agreement and Order No. 8159 issued to The Connecticut Light and Power Company in Milford on April 29, 1999.

(xviii) Trading Agreement and Order No. 8181 issued to Devon Power, LLC in Milford on January 12, 2000.

(xix) Trading Agreement and Order No. 8181A issued to Devon Power, LLC in Milford on April 22, 2003.

(xx) Trading Agreement and Order No. 8181A Modification No. 1 issued to Devon Power, LLC in Milford on March 21, 2005.

(xxi) Trading Agreement and Order No. 8219 issued to Devon Power, LLC in Milford on March 22, 2002.

(xxii) Trading Agreement and Order No. 8219A issued to Devon Power, LLC in Milford on April 30, 2003.

(xxiii) Trading Agreement and Order No. 8219A Modification No. 1 issued to Devon Power, LLC in Milford on September 16, 2004.

(xxiv) Trading Agreement and Order No. 8251 issued to Devon Power, LLC in Milford on September 15, 2003.

(xxv) Trading and Agreement Order No. 8251 Modification No. 1 issued to Devon Power, LLC in Milford on March 21, 2005.

(xxvi) Trading Agreement and Order No. 8109 issued to Hamilton Sundstrand Corporation in Windsor Locks on April 29, 2003.

(xxvii) Trading Agreement and Order No. 8093A issued to Pfizer, Inc. in Groton on April 29, 1999.

(xxviii) Trading Agreement and Order No. 8093B issued to Pfizer, Inc. in Groton on December 5, 2001.

(xxix) Trading Agreement and Order No. 8093C issued to Pfizer, Inc. in Groton on April 29, 2003.

(xxx) Trading Agreement and Order No. 8093C Modification No. 1 issued to Pfizer, Inc. in Groton on April 11, 2005.

(xxxi) Trading Agreement and Order No. 8136 issued to Pfizer, Inc. in Groton on April 29, 1999.

(xxxii) Trading Agreement and Order No. 8136A issued to Pfizer, Inc. in Groton on April 14, 2003.

(xxxiii) Trading Agreement and Order No. 8119 Modification No. 1 issued to City of Norwich Department of Public Utilities in Norwich on April 29, 1999.

(xxxiv) Trading Agreement and Order No. 8119A issued to City of Norwich Department of Public Utilities in Norwich on April 29, 2003.

(xxxv) Trading Agreement and Order No. 8119A Modification No. 1 issued to City of Norwich Department Of Public Utilities in Norwich on March 21, 2005.

(xxxvi) Trading Agreement and Order No. 8092 Modification No. 1 issued to The United Illuminating Company in Bridgeport on April 30, 1999.

(xxxvii) Trading Agreement and Order No. 8103 Modification No. 1 issued to The United Illuminating Company in Bridgeport on February 18, 1997.

(xxxviii) Trading Agreement and Order No. 8103 Modification No. 2 issued to The United Illuminating Company in Bridgeport on April 30, 1999.

(xxxix) Trading Agreement and Order No. 8177 Modification 1 issued to Wisvest-Connecticut, LLC in Bridgeport on March 12, 2001.

(xl) Trading Agreement and Order No. 8241 issued to PSEG Power Connecticut, LLC in Bridgeport on February 13, 2003.

(xli) Trading Agreement and Order No. 8241 Modification No. 1 issued to PSEG Power Connecticut, LLC in Bridgeport on September 15, 2004.

(xlii) Trading Agreement and Order No. 8242 issued to PSEG Power Connecticut, LLC in Bridgeport on February 13, 2003.

(xliii) Trading Agreement and Order No. 8243 issued to PSEG Power Connecticut, LLC in New Haven on February 13, 2003.

(xliv) Trading Agreement and Order No. 8244 issued to PSEG Power Connecticut, LLC in Bridgeport on February 13, 2003.

(xlv) Trading Agreement and Order No. 8244 Modification No. 1 issued to PSEG Power Connecticut, LLC in Bridgeport on March 21, 2005.

(xlvi) Trading Agreement and Order No. 8253 issued to PSEG Power Connecticut, LLC in Bridgeport on July 23, 2003.

(xlvii) Trading Agreement and Order No. 8253 Modification No. 1 issued to PSEG Power Connecticut, LLC in Bridgeport on September 15, 2004.

(xlviii) Trading Agreement and Order No. 8115 Modification No. 2 issued to University of Connecticut in Storrs on April 29, 1999.

(xlix) Trading Agreement and Order No. 8115B issued to University of Connecticut in Storrs on March 21, 2003.

(l) Trading Agreement and Order No. 8107 Modification No. 1 issued to Northeast Nuclear Energy Company in Waterford on April 29, 1999.

(li) Trading Agreement and Order No. 8107 Modification No. 2 issued to Northeast Nuclear Energy Company in Waterford on March 29, 2001.

(lii) Trading Agreement and Order No. 8152 issued to Northeast Nuclear Energy Company in Waterford on July 9, 1998.

(liii) Trading Agreement and Order No. 8152 Modification No. 1 issued to Northeast Nuclear Energy Company in Waterford on December 30, 1998.

(liv) Trading Agreement and Order No. 8152A issued to Northeast Nuclear Energy Company in Waterford on June 28, 1999.

(lv) Trading Agreement and Order No. 8221 issued to Dominion Nuclear Connecticut, Inc. in Waterford on March 29, 2001.

(lvi) Trading Agreement and Order No. 8221A issued to Dominion Nuclear Connecticut, Inc. in Waterford on April 28, 2003.

(lvii) Trading Agreement and Order No. 8222 issued to Dominion Nuclear Connecticut, Inc. in Waterford on March 29, 2001.

(lviii) Trading Agreement and Order No. 8222A issued to Dominion Nuclear Connecticut, Inc. in Waterford on April 28, 2003.

(lix) Trading Agreement and Order No. 8180 issued to Connecticut Jet Power LLC in Branford, Greenwich, and Torrington on January 12, 2000.

(lx) Trading Agreement and Order No. 8180 Modification No. 1 issued to Connecticut Jet Power, LLC in Branford, Greenwich, and Torrington on May 7, 2002.

(lxi) Trading Agreement and Order No. 8180A issued to Connecticut Jet Power, LLC in Branford, Greenwich, and Torrington on April 22, 2003.

(lxii) Trading Agreement and Order No. 8180A Modification No. 1 issued to Connecticut Jet Power, LLC in Branford, Greenwich, and Torrington on March 21, 2005.

(lxiii) Trading Agreement and Order No. 8114 Modification No. 1 issued to Cytec Industries, Inc. in Wallingford on April 29, 1999.

(lxiv) Trading Agreement and Order No. 8114 Modification No. 2 issued to Cytec Industries, Inc. in Wallingford on May 26, 2001.

(lxv) Trading Agreement and Order No. 8114A issued to Cytec Industries, Inc. in Wallingford on April 24, 2003.

(lxvi) Trading Agreement and Order No. 8117 issued to Sprague Paperboard, Inc. in Versailles on December 10, 2002.

(lxvii) Trading Agreement and Order No. 8117A issued to Sprague Paperboard, Inc. in Versailles on September 29, 2003.

(lxviii) Trading Agreement and Order No. 8117B issued to Sprague Paperboard, Inc. in Versailles on April 25, 2005.

(lxix) Trading Agreement and Order No. 8157 issued to The Connecticut Light and Power Company in Middletown on April 29, 1999.

(lxx) Trading Agreement and Order No. 8160 issued to The Connecticut Light and Power Company in Middletown on April 29, 1999.

(lxxi) Trading Agreement and Order No. 8162 issued to The Connecticut Light and Power Company in Middletown on April 29, 1999.

(lxxii) Trading Agreement and Order No. 8182 issued to Middletown Power, LLC in Middletown on January 12, 2000.

(lxxiii) Trading Agreement and Order No. 8182A issued to Middletown Power, LLC in Middletown on April 22, 2003.

(lxxiv) Trading Agreement and Order No. 8182A Modification No. 1 issued to Middletown Power, LLC in Middletown on March 21, 2005.

(lxxv) Trading Agreement and Order No. 8213 issued to Middletown Power, LLC in Middletown on March 22, 2002.

(lxxvi) Trading Agreement and Order No. 8213A issued to Middletown Power, LLC in Middletown on April 30, 2003.

(lxxvii) Trading Agreement and Order No. 8213A Modification No. 1 issued to Middletown Power, LLC in Middletown on September 16, 2004.

(lxxviii) Trading Agreement and Order No. 8214 issued to Middletown Power, LLC in Middletown on March 22, 2002.

(lxxix) Trading Agreement and Order No. 8214A issued to Middletown Power, LLC in Middletown on April 30, 2003.

(lxxx) Trading Agreement and Order No. 8214A Modification No. 1 issued to Middletown Power, LLC in Middletown on September 16, 2004.

(lxxxi) Trading Agreement and Order No. 8215 issued to Middletown Power, LLC in Middletown on March 22, 2002.

(lxxxii) Trading Agreement and Order No. 8215A issued to Middletown Power, LLC in Middletown on April 30, 2003.

(lxxxiii) Trading Agreement and Order No. 8215A Modification No. 1 issued to Middletown Power, LLC in Middletown on September 16, 2004.

(lxxxiv) Consent Order No. 8227 issued to Middletown Power, LLC in Middletown on March 11, 2002.

(lxxxv) Trading Agreement and Order No. 8227A issued to Middletown Power, LLC in Middletown on April 26, 2003.

(lxxxvi) Trading Agreement and Order No. 8227A Modification 1 issued to Middletown Power, LLC in Middletown on July 18, 2003.

(lxxxvii) Trading Agreement and Order No. 8156 issued to The Connecticut Light and Power Company in Montville on April 29, 1999.

(lxxxviii) Trading Agreement and Order No. 8161 issued to The Connecticut Light and Power Company in Montville on April 29, 1999.

(lxxxix) Trading Agreement and Order No. 8183 issued to Montville Power, LLC in Montville on January 12, 2000.

(xc) Trading Agreement and Order No. 8183A issued to Montville Power, LLC in Montville on April 22, 2003.

(xci) Trading Agreement and Order No. 8183A Modification No. 1 issued to Montville Power, LLC in Montville on March 21, 2005.

(xcii) Trading Agreement and Order No. 8216 issued to Montville Power, LLC in Montville on March 22, 2002.

(xciii) Trading Agreement and Order No. 8216A issued to Montville Power, LLC in Montville on April 30, 2003.

(xciv) Trading Agreement and Order No. 8216A Modification No. 1 issued to Montville Power, LLC in Montville on September 16, 2004.

(xcv) Trading Agreement and Order No. 8217 issued to Montville Power, LLC in Montville on March 22, 2002.

(xcvi) Trading Agreement and Order No. 8217A issued to Montville Power, LLC in Montville on April 30, 2003.

(xcvii) Trading Agreement and Order No. 8217A Modification No. 1 issued to Montville Power, LLC in Montville on September 16, 2004.

(xcviii) Trading Agreement and Order No. 8158 issued to The Connecticut Light and Power Company in Norwalk on April 29, 1999.

(xcix) Trading Agreement and Order No. 8184 issued to Norwalk Power, LLC in Norwalk on January 12, 2000.

(c) Trading Agreement and Order No. 8184A issued to Norwalk Power, LLC in Norwalk on April 22, 2003.

(ci) Trading Agreement and Order No. 8184A Modification No. 1 issued to Norwalk Power, LLC in Norwalk on March 21, 2005.

(cii) Trading Agreement and Order No. 8218 issued to Norwalk Power, LLC in Norwalk on March 22, 2002.

(ciii) Trading Agreement and Order No. 8218A issued to Norwalk Power, LLC in Norwalk on April 30, 2003.

(civ) Trading Agreement and Order No. 8218A Modification No. 1 issued to Norwalk Power, LLC in Norwalk on September 16, 2004.

(cv) Trading Agreement and Order No. 8134 issued to United Technologies Corporation in East Hartford on January 24, 2000.

(cvi) Trading Agreement and Order No. 8134A issued to United Technologies Corporation in East Hartford on April 15, 2003.

(cvii) Trading Agreement and Order No. 8248 issued to United Technologies Corporation in East Hartford on August 19, 2003.

(cviii) Trading Agreement and Order No. 8175 issued to Northeast Generation Company in Berlin on February 1, 2000.

(cix) Trading Agreement and Order No. 8175 Modification No. 1 issued to Northeast Generation Company in Berlin on March 13, 2000.

(cx) Trading Agreement and Order No. 8175A issued to Northeast Generation Company in Berlin on April 28, 2003.

(cxi) Trading Agreement and Order No. 8175A Modification No. 1 issued to Northeast Generation Company in Berlin on April 11, 2005.

(cxii) Trading Agreement and Order No. 8102 Modification No. 1 issued to The United Illuminating Company in New Haven on April 30, 1999.

(cxiii) Trading Agreement and Order No. 8153 issued to The United Illuminating Company in New Haven on April 30, 1999.

(cxiv) Trading Agreement and Order No. 8176 Modification No. 1 issued to Wisvest-Connecticut, LLC in New Haven on March 12, 2001.

(cxv) Trading Agreement and Order No. 8240 issued to PSEG Power Connecticut, LLC in New Haven on February 13, 2003.

(cxvi) Trading Agreement and Order No. 8240 Modification No. 1 issued to PSEG Power Connecticut, LLC in New Haven on September 16, 2004.

(cxvii) Trading Agreement and Order No. 8220 issued to Bristol-Meyers Squibb Company in Wallingford on September 23, 2001.

(cxviii) Trading Agreement and Order No. 8220A issued to Bristol-Meyers Squibb Company in Wallingford on March 27, 2003.

(cxix) Trading Agreement and Order No. 8220A Modification No. 1 issued to Bristol-Meyers Squibb Company in Wallingford on May 5, 2005.

(cxx) Trading Agreement and Order No. 8124 issued to Stone Container Corporation in Uncasville on January 15, 2002.

(cxxi) Trading Agreement and Order No. 8124A issued to Stone Container Corporation in Uncasville on March 12, 2003.

(cxxii) Trading Agreement and Order No. 8120 issued to Sikorsky Aircraft Corporation in Stratford on April 5, 2002.

(cxxiii) Trading Agreement and Order No. 8120A issued to Sikorsky Aircraft Corporation in Stratford on March 27, 2003.

(cxxiv) Trading Agreement and Order No. 8137 Modification No. 1 issued to Alliedsignal, Inc. and U.S. Army Tank-Automotive and Armaments Command in Stratford on July 8, 1997.

(cxxv) Trading Agreement and Order No. 8137 Modification No. 2 issued to U.S. Army Tank-Automotive and Armaments Command in Stratford on April 29, 1999.

(cxxvi) Trading Agreement and Order No. 8137A issued to United States Army Stratford Army Engine Plant in Stratford on May 1, 2003.

(cxxvii) Trading Agreement and Order No. 8188 issued to Allegheny Ludlum Corporation in Wallingford on May 28, 2002.

(cxxviii) Trading Agreement and Order No. 8112 issued to US Navy Submarine Base New London in Groton on April 30, 1999.

(cxxix) Trading Agreement and Order No. 8112A issued to United States Naval Submarine Base in Groton on May 7, 2003.

(cxxx) Trading Agreement and Order No. 8112A, Modification No. 1 issued to United States Naval Submarine Base in Groton on April 25, 2005.

(cxxxi) Trading Agreement and Order No. 8201CC issued to US Naval Submarine Base New London in Groton on July 12, 2002.

(cxxxii) Trading Agreement and Order No. 8230 issued to Jacobs Vehicle Systems, Inc. in Bloomfield on November 21, 2002.

(cxxxiii) Trading Agreement and Order No. 8110 Modification No. 1 issued to Yale University in New Haven on April 29, 1999.

(cxxxiv) Trading Agreement and Order No. 8123 Modification No. 1 issued to Algonquin Gas Transmission Company in Cromwell on April 29, 1999.

(cxxxv) Trading Agreement and Order No. 8123A issued to Algonquin Gas Transmission Company in Cromwell on April 30, 2003.

(cxxxvi) Trading Agreement and Order No. 8250 issued to Algonquin Windsor Locks, LLC in Windsor Locks on August 27, 2003.

(cxxxvii) Trading Agreement and Order No. 8261 issued to Algonquin Windsor Locks, LLC in Windsor Locks on April 8, 2005.

(cxxxviii) Trading Agreement and Order No. 8249 issued to Capitol District Energy Center Cogeneration Associates in Hartford on September 29, 2003.

(cxxxix) Trading Agreement and Order No. 8249 Modification No. 1 issued to Capitol District Energy Center Cogeneration Associates in Hartford on April 11, 2005.

(cxl) Trading Agreement and Order No. 8094 Modification No. 1 issued to Ogden Martin Systems of Bristol, Inc. in Bristol on April 29, 1999.

(cxli) Trading Agreement and Order No. 8095 Modification No. 1 issued to American Ref-Fuel Company of Southeastern Connecticut in Preston on April 29, 1999.

(cxlii) Trading Agreement and Order No. 8100 Modification No. 1 issued to Bridgeport Resco Company, Limited Partnership in Bridgeport on April 29, 1999.

(cxliii) Trading Agreement and Order No. 8101 Modification No. 1 issued to State of Connecticut Department of Mental Health and Addiction Services in Middletown on April 29, 1999.

(cxliv) Trading Agreement and Order No. 8111 Modification No. 1 issued to Uniroyal Chemical Company, Inc. in Naugatuck on April 29, 1999.

(cxlv) Trading Agreement and Order No. 8118 Modification No. 1 issued to South Norwalk Electric Works in South Norwalk on April 29, 1999.

(cxlvi) Trading Agreement and Order No. 8130 Modification No. 1 issued to Department of Public Works in Newton on April 29, 1999.

(cxlvii) Trading Agreement and Order No. 8132 Modification No. 1 issued to Bridgeport Hospital in Bridgeport on April 29, 1999.

(cxlviii) Trading Agreement and Order No. 8141 Modification No. 1 issued to The Town of Wallingford Department of Public Utilities in Wallingford on April 29, 1999.

(2) [Reserved]

[FR Doc. 2013-21474 Filed 9-6-13; 8:45 am]

BILLING CODE 6560-50-P